DEPARTMENT OF HEALTH AND HUMAN SERVICES

National Institutes of Health

Proposed Collection; Comment Request; Health Information National Trends Survey 2007 (HINTS 2007)

Summary: In compliance with the requirement of Section 3507(a)(1)(D) of the Paperwork Reduction Act of 1995, for opportunity for public comment on proposed data collection projects, the National Cancer Institute (NCI), the National Institutes of Health (NIH) request a review and approval of the information listed below. The proposed information collection was previously published in the Federal Register on October 26, 2006 on page 62597 and allowed 60 days for public comment. One public comment was received. The purpose of this notice is to allow an additional 30 days for public comment. The National Institutes of Health may not conduct or sponsor, and the respondent is not required to respond to, an information collection that has been extended, revised or implemented on or after October 1, 1995 unless it displays a currently valid OMB control number.

Proposed Collection: Title: Health Information National Trends Survey 2007 (HINTS 2007). Type of Information Collection Request: NEW. Need and Use of Information Collection: Building on the first two rounds of HINTS data collection (HINTS 2003: OMB #0925-0507, Exp. Date: 8/31/03; and HINTS 2005: OMB # 0925-0538, Exp. Date 11/30/2007), HINTS 2007 will continue to provide NCI with a comprehensive assessment of the American public's current access to, and use of, information about cancer, including cancer prevention, early detection, diagnosis, treatment, and prognosis. The content of the survey will focus on understanding the degree to which members of the general population understand vital cancer prevention messages. More importantly, this NCI survey will couple knowledge-related questions with inquiries into the communication channels through which understanding is being obtained. HINTS is intended to be the foundation of NCI's effort to build on the opportunities presented by a national shift in communication context (for example, the increase in information available on the Internet and the use of email as a method of communication), and by so doing, improve the nation's ability to reduce the national cancer burden. Data will be used (1) to understand individuals sources of and access to cancer-related information; (2) to measure progress in improving cancer knowledge and communication to the general public; (3) to develop appropriate messages for the public about cancer prevention, detection, diagnosis, treatment, and survivorship; and (4) to identify research gaps and guide decisions about NCI's research efforts in health promotion and health communication. Frequency of Response: One time. Affected Public: Individuals. Type of Respondents: U.S. Adults. The annual reporting burden is as follows: Estimated Number of Respondents: 11,670; Estimated Number of Responses per Respondent: 1.36; Average Burden Hours per Response: .24; and Estimated Total Annual Burden Hours Requested: 3,739. The annualized cost to respondents is estimated at: $59,824. There are no Capital Costs to report. There are no Operating or Maintenance Costs to report.

Type of respondent | Estimated number of respondents | Frequency of response | Estimated number of responses | Average hours per response | Annual hour burden | Respondent cost**
Pilot RDD screener only | 133 | 1 | 133 | .0833 | 11 | $176
Pilot RDD screener and interview | 200 | 2 | 400 | *.2500 | 100 | 1,600
Additional RDD screeners for advance materials test | 450 | 1 | 450 | .0833 | 37 | 592
Pilot mail survey | 640 | 1 | 640 | .3333 | 213 | 3,408
RDD screener only | 2,333 | 1 | 2,333 | .0833 | 194 | 3,104
RDD screener and interview | 3,500 | 2 | 7,000 | *.2500 | 1,750 | 28,000
Mail survey | 3,500 | 1 | 3,500 | .3333 | 1,167 | 18,672
Telephone screener only for mail followup | 457 | 1 | 457 | .0833 | 38 | 608
Telephone screener and interview for mail followup | 457 | 2 | 914 | *.2500 | 229 | 3,664
Total | 11,670 |  | 15,827 |  | 3,739 | 59,824
* (0.833 + 0.4167) / 2 = 0.2500.
** Hourly wage rate = $16.00.

Request For Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments To OMB: Written comments and/or suggestions regarding the item(s) contained in this notice, especially regarding estimated public burden and associated response time, should be directed to the: Office of Management and Budget, Office of Regulatory Affairs, New Executive Office Building, Room 10235, Washington, DC 20503, Attention: Desk Office for NIH. To request more information on the proposed project or to obtain a copy of the data collection plans and instruments, contact Bradford W. Hesse, PhD, Project Officer, National Cancer Institute, NIH, EPN 4068, 6130 Executive Boulevard MSC 7365, Bethesda, Maryland 20892-7365, or call non-toll-free number 301-594-9904, or FAX your request to 301-480-2198, or E-mail your request, including your address, to hesseb@mail.nih.gov.

Comments Due Date: Comments regarding this information collection are best assured of having their full effect if received within 30-days of the date of this publication.

Dated: March 23, 2007.
Rachelle Ragland-Greene,
NCI Project Clearance Liaison, National Institutes of Health.

[FR Doc. E7-6064 Filed 3-30-07; 8:45 am]

BILLING CODE 4140-01-P